DEPARTMENT OF COMMERCE

National Oceanic and Atmospheric Administration

[I.D. 120701B]

Pacific Fishery Management Council; Public Meeting

AGENCY: National Marine Fisheries Service (NMFS), National Oceanic and Atmospheric Administration (NOAA), Commerce.

ACTION: Notice of public meetings.

SUMMARY: The Pacific Fishery Management Council's (Council) Salmon Technical Team (STT) and Scientific and Statistical Committee (SSC) Salmon Subcommittee will hold two joint work sessions, which are open to the public.

DATES: The work sessions will be held Thursday, January 3, 2002, from 8:30 a.m. to 5 p.m., and Wednesday, February 6, 2002, from 8:30 a.m. to 5 p.m.

ADDRESSES: Both work sessions will be held at the Embassy Suites Hotel, 7900 NE 82nd Ave., Portland, OR 97220.

Council address: Pacific Fishery Management Council, 7700 NE Ambassador Place, Suite 200, Portland, OR 97220-1384.

FOR FURTHER INFORMATION CONTACT: Mr. Chuck Tracy, Salmon Management Staff Officer, Pacific Fishery Management Council (503) 326-6352.

SUPPLEMENTARY INFORMATION: The purpose of the work session is to brief the STT and SSC on changes made to or proposed for the coho Fishery Regulation Assessment Model (FRAM) and the Klamath Ocean Harvest Model (KOHM), review the scientific bases for those changes, and compare results from the updated model with those from the previous version. The coho FRAM will be reviewed on January 3, 2002 and the KOHM will be reviewed on February 6, 2002.

Although non-emergency issues not contained in the meeting agendas may come before the STT and the SSC subcommittee for discussion, those issues may not be the subject of formal action during these meetings. Action will be restricted to those issues specifically listed in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 326-6352 at least 5 days prior to the meeting date.

Dated: December 10, 2001.
Richard W. Surdi,
Acting Director, Office of Sustainable Fisheries, National Marine Fisheries Service.

[FR Doc. 01-31017 Filed 12-14-01; 8:45 am]

BILLING CODE 3510-22-S